DEPARTMENT OF THE INTERIOR

Bureau of Indian Affairs

Information Collection Activities, Submission to the Office of Management and Budget

AGENCY: Bureau of Indian Affairs, Interior.

ACTION: Notice.

SUMMARY: This notice announces that the Information Collection Request for the 25 CFR part 256, U.S. Department of the Interior (DOI), Bureau of Indian Affairs (BIA) Housing Improvement Program, OMB Control # 1076-0084, is being submitted to the Office of Information and Regulatory Affairs, Office of Management and Budget for reinstatement. The collection expired during the renewal process.

DATES: Submit comments on or before June 2, 2008.

ADDRESSES: Interested parties are invited to submit written comments regarding this proposal to the Desk Officer of the Department of the Interior by facsimile to 202-395-6566. You may also send comments by e-mail to: OIRA_DOCKET@omb.eop.gov.

Copies of comments should refer to the proposal by name and/ or OMB Control Number and should be sent to Les Jensen, Bureau of Indian Affairs, Department of the Interior, 1849 C Street, NW., MS-4513-MIB, Washington, DC 20240. Telephone 907-586-7397.

FOR FURTHER INFORMATION CONTACT: Copies of the collection of information form or requests for additional information should be directed to Les Jensen, Bureau of Indian Affairs, Department of Interior, 1849 C Street, NW., MS-4513-MIB, Washington, DC 20240. Telephone 907-586-7397.

SUPPLEMENTARY INFORMATION:

I. Abstract

The information is needed to establish an applicant's eligibility to receive services under the Housing Improvement Program and to establish the priority order in which eligible applicants may receive services under the program. A Federal Register notice requesting comments was published on October 30, 2007 (72 FR61365). No comments were received.

II. Method of Collection

The housing regulations at 25 CFR part 256 contain the program eligibility and selection criteria (§§ 256.6, 256.8, 256.9, 256.10, 256.13, 256.14), which must be met by prospective applicants seeking program services. Information collected from applicants under these regulations provides eligibility and selection data used by the local servicing housing office to establish whether an applicant is eligible to receive services. The local servicing housing office may be a tribal housing office under a Public Law 93-638, Indian Self-Determination contract or a Self-Governance annual funding agreement, or part of the BIA. Additionally, the data is used by the Assistant Secretary—Indian Affairs to establish whether a request for waiver of a specific housing regulation is in the best interest of the applicant and the Federal Government.

III. Data

(1) Title of the Collection of Information: Department of the Interior, Bureau of Indian Affairs, Housing Improvement Program, 25 CFR Part 256.

OMB Control Number: 1076-0084.

Type of Review: Reinstatement of an information collection.

(2) Summary of the Collection of Information: The collection of information provides pertinent data concerning an applicant's eligibility to receive services under the Housing Improvement Program and includes:

A. Applicant Information including: Name, current address, telephone number, date of birth, Social Security Number, tribe, roll number, reservation, marital status, name of spouse, date of birth of spouse, tribe of spouse, and roll number of spouse.

B. Family Information including: Name, date of birth, relationship to applicant, and tribe/roll number.

C. Income Information: Earned and unearned income.

D. Housing Information including: Location of the house to be repaired, constructed, or purchased; description of housing assistance for which applying; knowledge of receipt of prior Housing Improvement Program assistance, amount, to whom and when; ownership or rental; availability of electricity and name of electric company; type of sewer system; water source; number of bedrooms; size of house; and bathroom facilities.

E. Land Information including: Landowner; legal status of land; or type of interest in land.

F. General Information including: Prior receipt of services under the Housing Improvement Program and description of such; ownership of other housing and description of such; identification of Housing and Urban Development funded house and current status of project; identification of other sources of housing assistance for which the applicant has applied and been denied assistance if applying for a new housing unit or purchase of an existing standard unit; and advisement and description of any severe health problem, handicap or permanent disability.

G. Applicant Certification including: Signature of applicant and date, and signature of spouse and date.

(3) Description of the Need for the Information and Proposed Use of the Information: Submission of this information is required in order to receive services under the Housing Improvement Program. The information is collected to determine applicant eligibility for services and applicant priority order to receive services under the program.

(4) Description of Affected Entities: Individual members of federally recognized Indian tribes who are living within a designated tribal or legally defined service area. Lack of funding drives our number of respondents which we will estimate as one (1) to keep the information collection current.

Estimated Number of Respondents: 8,000.

Proposed Frequency of Response: Annually or less frequently, depending on length of waiting list, funding availability and dynamics of service population.

Estimated Number of Annual Responses: 8,000.

Estimated Time per Application: 1 hour.

Estimated Total Annual Burden Hours: 8,000 hours.

IV. Request for Comments

We specifically request your comments concerning the following:

1. Whether the collection of information is necessary for the proper performance of the functions of the BIA, including whether the information will have practical utility;

2. The accuracy of the BIA's estimate of the burden to collect the information, including the validity of the methodology and assumptions used;

3. The quality, utility and clarity of the information to be collected; and,

4. How to minimize the burden of the information collection on those who are to respond, including the use of appropriate automated electronic, mechanical or other forms of information technology.

Comments submitted in response to this notice will be summarized and/or included in the request for OMB approval of this information collection; the comments will also become a matter of public record.

An agency may not conduct or sponsor, and a person is not required to respond to a collection of information unless it displays a currently valid OMB control number. The comments, names and addresses of commenters will be available for public view during regular business hours. Before including your address, phone number, e-mail address, or other personal identifying information in your comment, be advised that your entire comment—including your personal identifying information—may be made publicly available at any time. While you can ask us in your comment to withhold from public review your personal identifying information, we cannot guarantee that we will be able to do so. We may withhold comments for other reasons, but we will not consider anonymous comments. The complete comments for businesses or organizations will be made public, including the representative's name.

OMB is required to respond to this request within 60 days after publication of this notice in the Federal Register, but may respond after 30 days; therefore, your comments should be submitted to OMB within 30 days to assure maximum consideration.

Dated: April 25, 2008.
Sanjeev “Sonny” Bhagowalia,
Chief Information Officer—Indian Affairs.

[FR Doc. E8-9529 Filed 4-30-08; 8:45 am]

BILLING CODE 4310-4J-P